DEPARTMENT OF COMMERCE

Foreign-Trade Zones Board

[S-27-2014]

Approval of Subzone Status, Mitusbishi Rayon Carbon Fiber and Composites, Inc., Sacramento, California

On March 26, 2014, the Executive Secretary of the Foreign-Trade Zones (FTZ) Board docketed an application submitted by the Sacramento-Yolo Port District, grantee of FTZ 143, requesting subzone status subject to the existing activation limit of FTZ 143, on behalf of Mitsubishi Rayon Carbon Fiber and Composites, Inc., in Sacramento, California.

The application was processed in accordance with the FTZ Act and Regulations, including notice in the Federal Register inviting public comment (79 FR 18011, 03/31/2014). The FTZ staff examiner reviewed the application and determined that it meets the criteria for approval. Pursuant to the authority delegated to the FTZ Board Executive Secretary (15 CFR 400.36(f)), the application for subzone status (Subzone 143D) is approved, subject to the FTZ Act and the Board's regulations, including Section 400.13, and further subject to FTZ 143's 2,000-acre activation limit. This action does not imply authority for any production activity requiring advance approval by the FTZ Board.

Dated: May 2, 2014.
Andrew McGilvray,
Executive Secretary.

[FR Doc. 2014-10509 Filed 5-6-14; 8:45 am]

BILLING CODE 3510-DS-P